DEPARTMENT OF TRANSPORTATION

Federal Aviation Administration

Notice of Intent To Rule on Application 04-04-C-00-GEG To Impose and Use and Impose Only the Revenue From a Passenger Facility Charge (PFC) at Spokane International Airport, Submitted by Spokane Airport Board, Spokane International Airport, Spokane, Washington

AGENCY: Federal Aviation Administration (FAA), DOT.

ACTION: Notice of Intent to Rule on Application.

SUMMARY: The FAA proposes to rule and invites public comment on the application to impose and use PFC revenue at Spokane International Airport under the provisions of 49 U.S.C. 40117 and Part 158 of the Federal Aviation Regulations (14 CFR 158).

DATES: Comments must be received on or before June 2, 2004.

ADDRESSES: Comments on this application may be mailed or delivered in triplicate to the FAA at the following address: Mr. J. Wade Bryant, Manager; Seattle Airports District Office, SEA-ADO; Federal Aviation Administration; 1601 Lind Avenue SW., Suite 250, Renton, Washington 98055-4056.

In addition, one copy of any comments submitted to the FAA must be mailed or delivered to Mr. John G. Morrison, CEO/Executive Director, at the following address: P.O. Box 19186, Spokane, WA 99219-9186.

Air Carriers and foreign air carriers may submit copies of written comments previously provided to Spokane International Airport, under section 158.23 of Part 158.

FOR FURTHER INFORMATION CONTACT: Ms. Suzanne Lee-Pang, (425) 227-2654, Seattle Airports District Office, SEA-ADO; Federal Aviation Administration; 1601 Lind Avenue SW., Suite 250, Renton, Washington 98055-4056. The application may be reviewed in person at this same location.

SUPPLEMENTARY INFORMATION: The FAA proposes to rule and invites public comment on the application 04-04-C-00-GEG to impose and use and impose only PFC revenue Spokane International Airport, under the provisions of 49 U.S.C. 40117 and Part 158 of the Federal Aviation Regulations (14 CFR Part 158).

On April 23, 2004, the FAA determined that the PFC application to impose and use revenue on eight projects and impose collection authority for one project submitted by Spokane Airport Board, Spokane International Airport, Spokane, Washington, was substantially complete within the requirements of section 158.25 of Part 158. The FAA will approve or disapprove the application, in whole or in part, no later than July 20, 2004.

The following is a brief overview of the application.

Level of the proposed PFC: $4.50.

Proposed charge effective date: May 1, 2005.

Proposed charge expiration date: August 1, 2008.

Total requested for collection approval: $13,361,711.

Brief description of proposed projects: Impose and Use projects—Planning Studies, Snow Removal Equipment, Taxiway F Construction, Security Access control Improvements, Terminal Modifications for Security Improvements, Safety Equipment, Taxiway G Construction, Terminal Capacity Improvements; Impose Only Project—Runway 3/21 Extension.

Class or classes of air carriers, which the public agency has requested, not be required to collect PFC's: None.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Spokane International Airport.

Issued in Renton, Washington on April 23, 2004.
David A. Field,
Manager, Planning, Programming and Capacity Branch, Northwest Mountain Region.

[FR Doc. 04-9922 Filed 4-30-04; 8:45 am]

BILLING CODE 4910-13-M